DEPARTMENT OF HEALTH AND HUMAN SERVICES

Centers for Disease Control and Prevention

[Program Announcement 01148]

Capacity-Building Assistance (CBA) To Develop and Implement Effective HIV/AIDS Prevention Education Programs for South Africa Trade Unions; Notice of Availability of Funds; Amendment

A notice announcing the availability of fiscal year (FY) 2001 funds for a cooperative agreement program to develop and implement effective HIV/AIDS prevention education programs for South Africa Trade Unions, was published in the Federal Register on August 21, 2001, [Vol. 66, No. 162, Page 43872]. The notice is amended as follows:

On page 43872, second column, under Submission and Deadline, delete: “On or before September 7, 2001, submit the application to the Grants Management Specialist identified in the Where to Obtain Additional Information of this announcement.” and change to “On or before October 10, 2001, submit the application to the Grants Management Specialist identified in the Where to Obtain Additional Information of this announcement.”

Dated: September 7, 2001.
John L. Williams,
Director, Procurement and Grants Office, Centers for Disease Control and Prevention.

[FR Doc. 01-22976 Filed 9-12-01; 8:45 am]

BILLING CODE 4163-18-P